FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011975.

Title: “K” Line/HMM Space Charter Agreement.

Parties: Kawasaki Kisen Kaisha, Ltd. and Hyundai Merchant Marine Co., Ltd.

Filing Party: John P. Meade, Esq.; “K” Line America, Inc.; P.O. Box 9; Preston, Maryland 21655.

Synopsis: The agreement authorizes the parties to exchange space on their respective vessels in the trade between U.S. ports and ports on the East Coast of South American and in the Caribbean Sea.

Agreement No.: 201132-008.

Title: New York/New Jersey-Port Newark Container Terminal LLC Lease (Lease No. L-PN-264).

Parties: The Port Authority of New York and New Jersey and Port Newark Container Terminal LLC.

Filing Party: Patricia W. Duemig, Senior Property Representative, The Port Authority of New York and New Jersey, New Jersey Marine Terminals, 260 Kellogg Street, Port Newark, NJ 07114.

Synopsis: The amendment extends the letting of PNCT's rail facility.

Title: Hampton Road Chassis Pool II Agreement.

Parties: Virginia International Terminals, Inc., and the Ocean Carrier Equipment Management Association, for itself and on behalf of the following of its member lines: APL Co. Pte. Ltd.; American President Lines, Ltd.; Atlantic Container Line; Australia-New Zealand Direct Line, a division of CP Ships (UK) Limited; CMA CGM, S.A.; Compania Sud Americana de Vapores, S.A.; Contship Containerlines, a division of CP Ships (UK) Limited; COSCO Containerlines Company Limited; Evergreen Marine Corp. (Taiwan) Ltd.; Hanjin Shipping Co., Ltd.; Hamburg-Süd; Hapag-Lloyd AG; Hyundai Merchant Marine Co. Ltd.; Kawasaki Kisen Kaisha, Ltd.; CP Ships USA, LLC; Mitsui O.S.K. Lines Ltd.; Nippon Yusen Kaisha Line; Orient Overseas Container Line Limited; and Yangming Marine Transport Corp.

Filing Party: Wayne R. Rohde, Esq.; Sher & Blackwell LLP; 1850 M Street, NW., Suite 900, Washington, DC 20036.

Synopsis: The amendment changes Hapag-Lloyd name and deletes P&O Nedlloyd B.V. and P&O Nedlloyd Limited as parties to the agreement.

Dated: October 20, 2006.
By order of the Federal Maritime Commission.
Karen V. Gregory,
Assistant Secretary.

[FR Doc. E6-17881 Filed 10-24-06; 8:45 am]

BILLING CODE 6730-01-P